DEPARTMENT OF JUSTICE

Parole Commission

Sunshine Act Meeting

TIME AND DATE: 10 a.m., Thursday, December 8, 2011.

PLACE: U.S. Parole Commission, 90 K Street NE., 3rd Floor, Washington, DC

STATUS: Open.

MATTERS TO BE CONSIDERED: Approval of September 8, 2011 meeting minutes; reports from the Chairman, the Commissioners, and senior staff.

CONTACT PERSON FOR MORE INFORMATION: Patricia W. Moore, Staff Assistant to the Chairman, U.S. Parole Commission, 90 K Street NE., 3rd Floor, Washington, DC 20530, (202) 346-7001.

Dated: November 30, 2011.
Rockne Chickinell,
General Counsel, U.S. Parole Commission.

[FR Doc. 2011-31202 Filed 12-1-11; 11:15 am]

BILLING CODE 4410-31-P